POSTAL SERVICE

39 CFR Part 111

New Mailing Standards for Domestic Mailing Services Products

AGENCY: Postal Service™.

ACTION: Proposed rule.

SUMMARY: On October 9, 2020, the Postal Service (USPS®) filed a notice of mailing services price adjustments with the Postal Regulatory Commission (PRC), effective January 24, 2021. This proposed rule contains the revisions to Mailing Standards of the United States Postal Service, Domestic Mail Manual (DMM®) that we would adopt to implement the changes coincident with the price adjustments.

DATES: Submit comments on or before November 16, 2020.

ADDRESSES: Mail or deliver written comments to the Manager, Product Classification, U.S. Postal Service, 475 L'Enfant Plaza SW, Room 4446, Washington, DC 20260-5015. If sending comments by email, include the name and address of the commenter and send to PCFederalRegister@usps.gov, with a subject line of “January 2021 Domestic Mailing Services Proposal.” Faxed comments are not accepted.

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Jacqueline Erwin at (202) 268-2158, or Dale Kennedy at (202) 268-6592.

SUPPLEMENTARY INFORMATION: Proposed prices will be available under Docket No. R2021-1 on the Postal Regulatory Commission's website at www.prc.gov.

The Postal Service's proposed rule includes: Changes to prices, mail classification updates, and product simplification efforts.

Seamless Acceptance Incentive

Currently, mailers who present qualifying full-service mailings receive an incentive discount of $.003 per piece for USPS Marketing Mail and First-Class Mail and $0.001 for Bound Printed Matter flats and Periodicals.

The Postal Service is proposing an incentive discount for mailers who mail through the Seamless Acceptance program, in addition to the full-service incentive discount.

Beginning on the day of their first mailing, following onboarding to the program the mailer or mail service provider, as applicable, will receive an incentive discount in addition to the full-service incentive discount. The mailer would be allowed to combine the Seamless and full-service incentive discounts. The Seamless incentive discount would be based on a mailer's customer registration ID (CRID). A Seamless mailer is defined by their status in PostalOne!. Moving to Seamless is defined as the status changing from “None” or “Seamless Parallel” to “Seamless Acceptance”.

The proposal would leave the full-service discount exactly as it is now and provide a $.001 per piece incentive discount for Seamless. The maximum incentive discount per piece is $0.004 for USPS Marketing Mail and First-Class Mail and $0.002 for Bound Printed Matter flats and Periodicals.

Although exempt from the notice and comment requirements of the Administrative Procedure Act (5 U.S.C. 553(b), (c)) regarding proposed rulemaking by 39 U.S.C. 410(a), the Postal Service invites public comments on the following proposed revisions to Mailing Standards of the United States Postal Service, Domestic Mail Manual (DMM), incorporated by reference in the Code of Federal Regulations. See 39 CFR 111.1.

We will publish an appropriate amendment to 39 CFR part 111 to reflect these changes if our proposal is adopted.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

Notice 123 (Price List)

[Revise prices as applicable.]

* * * * *

We will publish an appropriate amendment to 39 CFR part 111 to reflect these changes.

Joshua J. Hofer,
Attorney, Federal Compliance.

[FR Doc. 2020-22887 Filed 10-13-20; 8:45 am]

BILLING CODE P